FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 020114NF.

Name: BC Global Logistics, Incorporated.

Address: 1210 W. Euclid Ave., Arlington Heights, IL 60005.

Date Revoked: April 24, 2007.

Reason: Surrendered license voluntarily.

License Number: 019629N.

Name: Freight Services of West Coast Corp. dba Omega Logistics.

Address: 353 North Oak Street, Unit B, Inglewood, CA 90302.

Date Revoked: April 27, 2007.

Reason: Failed to maintain a valid bond.

License Number: 000444F.

Name: H. A. Gogarty, Inc.

Address: 7 Pearl Street, Hawthorne, NY 10532.

Date Revoked: April 30, 2007.

Reason: Failed to maintain a valid bond.

License Number: 004466F.

Name: Impex Cargo, Inc.

Address: 2618 NW 72nd Ave., Miami, FL 33122.

Date Revoked: May 5, 2007.

Reason: Failed to maintain a valid bond.

License Number: 020091N.

Name: Oceanic Export Inc.

Address: 147 Knollwood Terrace, Clifton, NJ 07012.

Date Revoked: May 5, 2007.

Reason: Failed to maintain a valid bond.

License Number: 019930NF.

Name: Oxford Transport, Inc.

Address: 500 W. 140th Street, Gardena, CA 90248.

Date Revoked: April 30, 2007.

Reason: Surrendered license voluntarily.

License Number: 019267N.

Name: Seagold (USA) Inc.

Address: 262 W. 38th Street, Ste. 406, New York, NY 10018.

Date Revoked: May 3, 2007.

Reason: Failed to maintain a valid bond.

Sandra L. Kusumoto,
Director, Bureau of Certification and Licensing.

[FR Doc. E7-9323 Filed 5-14-07; 8:45 am]

BILLING CODE 6730-01-P